DEPARTMENT OF ENERGY

Federal Energy Regulatory Commission

[Docket No. EL02-127-000, et al.]

PPL Electric Utilities Corporation, et al.; Electric Rate and Corporate Regulation Filings

September 17, 2002.

The following filings have been made with the Commission. The filings are listed in ascending order within each docket classification.

1. PPL Electric Utilities Corporation

[Docket No. EL02-127-000]

Take notice that on August 30, 2002, PPL Electric Utilities Corporation (PPL Electric) tendered for filing with the Federal Energy Regulatory Commission (Commission)a request for waiver of the requirement to make its Form No. 715 (Annual Transmission Planning and Evaluation Report) available to the public upon requests. PPL Electric is requesting a waiver to permit it to provide to the public the same information that the Commission posts on its website from PPL Electric's Form No. 715, which will not include information deemed too sensitive for release by the Commission.

Comment Date: September 30, 2002.

2. Cinergy Services, Inc.

[Docket No. ER02-1666-002]

Take notice that on September 13, 2002, Cinergy Services, Inc. (Cinergy), as agent for PSI Energy, Inc. (PSI), re-submitted for filing an Interconnection Agreement between Indianapolis Power & Light Company (IPL) and PSI to comply with the Commission's order of August 15, 2002 in this docket.

Cinergy states that it has served a copy of the filing upon the Indiana Utility Regulatory Commission and Indianapolis Power & Light Company.

Comment Date: October 4, 2002.

3. Central Maine Power Company

[Docket No. ER02-2135-001]

Take notice that on September 13, 2002 , Central Maine Power Company (CMP) submitted the Support Service Agreement between CMP and Maine Electric Power Company (MEPCO), corrected as to Order 614 markings, and designated as Original Rate Schedule FERC No. 115, First Revised, with an effective date of January 1, 2002.

Comment Date: October 4, 2002.

4. PECO Energy Company

[Docket No. ER02-2341-001]

Take notice that on September 13, 2002, PECO Energy Company (PECO) submitted for filing a revised Interconnection Agreement by and between PECO and Visteon Corporation (Visteon) for Generation Interconnection and Parallel Operation, designated as Service Agreement No. 703 under PJM Interconnection, L.L.C.”s FERC Electric Tariff, Fourth Revised Volume No. 1. The Interconnection Agreement was revised to reflect an effective date of July 18, 2002, as opposed to July 1, 2002, which was requested in the original filing. Copies of this filing were served on Visteon and PJM.

Comment Date: October 4, 2002.

5. Cargill Power Markets, LLC

[Docket No.ER02-2551-000]

Take notice that on September 13, 2002, Cargill Power Markets, LLC (Cargill Power Markets), submitted to the Federal Energy Regulatory Commission (FERC or the Commission) a Notice of Succession notifying the Commission that is has succeeded to the market-based rate wholesale power sales rate schedule (the Rate Schedule) of Cargill-Alliant, LLC, First Revised Rate Schedule FERC No. 1. In addition, Cargill Power Markets files the Rate Schedule, updated as appropriate and in conformance with Order Nos. 614 and 2001, as a Cargill Power Markets, LLC, Original Rate Schedule FERC No. 1.

Comment Date: October 4, 2002.

6. Atlantic City Electric Company

[Docket No. ER02-2484-000]

Take notice that on September 13, 2002, Atlantic City Electric Company withdrew its filing in the above-captioned proceeding. Copies of the filing were served upon the customer.

Comment Date: October 4, 2002.

7. UAE Lowell Power LLC

[Docket No. ER99-1744-003]

Take notice that on August 16, 2002, as amended on September 6, 2002, UAE Lowell Power LLC tendered for filing their triennial market power updates in support of authorization to engage in wholesale sales of electric energy at market-based rates.

Comment Date: September 27, 2002.

Standard Paragraph

E. Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-24285 Filed 9-25-02; 8:45 am]

BILLING CODE 6717-01-P